INTERNATIONAL TRADE COMMISSION

[Investigation Nos. 701-TA-554 and 731-TA-1309 (Final)]

Biaxial Integral Geogrid Products From China; Revised Schedule for Hearing in Final Investigations

AGENCY: United States International Trade Commission.

ACTION: Notice.

DATES: Effective September 20, 2016.

FOR FURTHER INFORMATION CONTACT: Hangyul Chang (202-205-3062), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On August 22, 2016, the Commission established a schedule for conducting the final phase of investigations on certain biaxial integral geogrid products from China (81 FR 63495 September 15, 2016). The Commission is revising its schedule by changing the date of the hearing.

The Commission's new schedule for the hearing in these investigations is as follows: The hearing will be held at the U.S. International Trade Commission Building at 9:30 a.m. on December 21, 2016. All other aspects of the schedule remain unchanged.

For further information concerning these investigations see the Commission's notice cited above.

Authority: These investigations are being conducted under authority of title VII of the Tariff Act of 1930; this notice is published pursuant to section 207.21 of the Commission's rules.

By order of the Commission.
Issued: September 20, 2016.
Lisa R. Barton,
Secretary to the Commission.

[FR Doc. 2016-22940 Filed 9-22-16; 8:45 am]

BILLING CODE 7020-02-P